NUCLEAR WASTE TECHNICAL REVIEW BOARD

Board Meeting: September 13-14, 2011—Salt Lake City, UT; the U.S. Nuclear Waste Technical Review Board Will Meet To Discuss DOE Plans for Used Fuel Disposition R&D

Pursuant to its authority under section 5051 of Public Law 100-203, Nuclear Waste Policy Amendments Act of 1987, the U.S. Nuclear Waste Technical Review Board will hold a public meeting in Salt Lake City, Utah, on Tuesday, September 13, and Wednesday, September 14, 2011, to discuss the Department of Energy's (DOE) plans for research and development (R&D) related to its Used Fuel Disposition Program. The Board will hear presentations on a range of studies being supported by the Office of Used Fuel Disposition, including research on transportation and long-term storage of spent nuclear fuel (SNF), studies of various geologic media that might be considered for disposing of SNF and high-level radioactive waste (HLW), and DOE's Used Fuel Disposition R&D “Roadmap.” Other issues that will be discussed at the meeting include a preliminary report by the Blue Ribbon Commission on America's Nuclear Future and the implications for waste management of the experiences of commercial nuclear reactors using MOX fuel.

The meeting sessions will begin on both days at 8 a.m. and will be held at the Little America Hotel; 500 South Main Street; Salt Lake City, Utah 84101; (tel) 801-258-6740; (fax) 801-258-6858. A block of rooms has been reserved at the hotel for meeting attendees. To ensure receiving the meeting rate, room reservations must be made by Tuesday, August 16. To reserve a room, call 800-437-5288 and request a reservation in the U.S. Nuclear Waste Technical Review Board room block.

A detailed agenda will be available on the Board's Web site at http://www.nwtrb.gov approximately one week before the meeting. The agenda also may be obtained by telephone request at that time.

The meeting will be open to the public, and opportunities for public comment will be provided at the end of each day's session. Those wanting to speak are encouraged to sign the “Public Comment Register” at the check-in table. A time limit may need to be set for individual remarks, but written comments of any length may be submitted for the record.

Transcripts of the meeting will be available on the Board's Web site, by e-mail, on computer disk, and on library-loan in paper form from Davonya Barnes of the Board's staff after October 10, 2011.

The Board was established as an independent Federal agency to provide ongoing objective expert advice to Congress and the Secretary of Energy on technical issues related to nuclear waste management and to review the technical validity of DOE activities related to implementing the Nuclear Waste Policy Act. Board members are experts in their fields and are appointed to the Board by the President from a list of candidates submitted by the National Academy of Sciences. The Board is required to report to Congress and the Secretary no fewer than two times each year. Board reports, correspondence, congressional testimony, and meeting transcripts and materials are posted on the Board's Web site.

For information on the meeting agenda, contact Karyn Severson. For information on lodging or logistics, contact Linda Coultry. They can be reached at 2300 Clarendon Boulevard, Suite 1300, Arlington, VA 22201-3367; (tel) 703-235-4473; (fax) 703-235-4495.

Dated: July 29, 2011.
Nigel Mote,
Executive Director, U.S. Nuclear Waste Technical Review Board.

[FR Doc. 2011-19801 Filed 8-4-11; 8:45 am]

BILLING CODE 6820-AM-M